DEPARTMENT OF AGRICULTURE

National Institute of Food and Agriculture

Notice of Intent To Reinstate and Revise a Previously Approved Information Collection

AGENCY: National Institute of Food and Agriculture, USDA.

ACTION: Notice and request for comments.

SUMMARY: In accordance with the Paperwork Reduction Act of 1995 and Office of Management and Budget (OMB) regulations this notice announces the National Institute of Food and Agriculture's (NIFA) intention to reinstate and revise a previously approved information collection, entitled Small Business Innovation Research (SBIR) Program Survey. This information collection replaces an expired information collection, entitled Small Business Innovation Research (SBIR) Program.

DATES: Written comments on this notice must be received by December 2, 2022 to be assured of consideration. Comments received after that date will be considered to the extent practicable.

ADDRESSES: You may submit comments through the Federal eRulemaking Portal: http://www.regulations.gov. Follow the instructions for submitting comments.

Instructions: All comments received will be posted without change to http://www.regulations.gov, including any personal information provided.

FOR FURTHER INFORMATION CONTACT: Robert Martin, 202-445-5388, Robert.martin3@usda.gov.

SUPPLEMENTARY INFORMATION:

Title of Collection: Small Business Innovation Research (SBIR) Program Survey.

OMB Control Number: 0524-0049.

Expiration Date of Current Approval: 7/31/2019.

Type of Request: Notice of intent to reinstate and revise a previously approved information collection. The total annual burden for this collection has been reduced from approximately 2500 hours to 121 hours.

NIFA is requesting approval to reinstate a previously approved, but expired, information collection.

NIFA is also proposing to update the collection by reducing the number of questions, in order to eliminate redundant or repetitive questions and reduce the burden on respondents. NIFA is also proposing to update the wording of certain questions to improve clarity, and also adding additional qualitative questions in order to improve the quality and usefulness of the data collected.

Abstract: The Small Business Innovation Research (SBIR) program at United States Department of Agriculture (USDA) makes competitively awarded grants to qualified small businesses to support high quality, advanced concepts research related to important scientific problems and opportunities in agriculture that could lead to significant public benefit if successful.

The USDA SBIR Program Office proposes to contact Phase II awardees to determine their success in achieving commercial application of a market ready technology that was funded under the USDA SBIR Program. The survey would collect information from Phase II companies that received funding during the years of 2016-2019.

Data from the survey will be used to provide information that currently does not exist. The data will be used internally by the USDA SBIR Office to identify past and current activities of Phase II grantees in the areas of technology development, commercialization success, product development or services, and factors that may have prevented the technology from entering into the market place. Depending on the results of the survey, information from the survey will be used to highlight commercialization successes within the small business community; improve and refine program interactions with, and responsiveness to, the small business community; potentially refocus the strategies that are used to accomplish SBIR objectives for commercialization; and identify areas in need of improvement and enhancement. This survey will not be used to formulate or change policies. Rather, it will be used to enable the USDA SBIR Office to be responsive to its constituents and document successes within the USDA SBIR Program.

The objectives of the SBIR Program are to: Stimulate technological innovations in the private sector; strengthen the role of small businesses in meeting Federal research and development needs; increase private sector commercialization of innovations derived from USDA-supported research and development efforts; and foster and encourage participation by women-owned and socially and economically disadvantaged small business firms in technological innovations.

The USDA SBIR program is carried out in three separate phases:

1. Phase I awards to determine, insofar as possible, the scientific and technical merit and feasibility of ideas that appear to have commercial potential.

2. Phase II awards to further develop work from Phase I that meets particular program needs and exhibits potential for commercial application.

3. Phase III awards where commercial applications of SBIR-funded Research/Research and Development (R/R&D) are funded by non-Federal sources of capital; or where products, services or further research intended for use by the Federal Government are funded by follow-on non-SBIR Federal Funding Agreements. The USDA SBIR Program is administered by NIFA of the USDA. NIFA exercises overall oversight for the policies and procedures governing SBIR grants awarded to the U.S. small business community, representing approximately 3.2% of the USDA extramural R/R&D budget. This represents approximately $72,886,724 in Phase II grants awarded to the U.S. small business community from 2016-2019.

Plan

A total of 121 USDA SBIR Phase II grants were awarded to small businesses between 2016-2019, and the USDA SBIR Program plans to contact past Phase II awardees to determine their success in achieving commercial application of a market ready technology under Phase III.

The survey will be administered through a USDA led contract where a contractor will perform an initial web-based survey administered through a secure internet link with SBIR Phase II grantees. The web-based survey will consist of a series of questions that relate to the commercial status of the technology developed with USDA SBIR Phase II funding as well as general questions regarding the USDA SBIR Program. The USDA SBIR Program office will coordinate the initial contact with the Phase II companies in an effort to introduce the scope of the survey, provide straightforward instructions and facilitate the survey work that the contractor will initiate and complete. Phase II companies that do not respond within two weeks to the initial contact from the USDA SBIR Program Office will be sent a second request by email or by phone to respond.

Estimate of Burden: NIFA estimates that the survey will be sent to 121 respondents, and that it will take respondents approximately one hour to complete the survey. The total annual burden for the SBIR Program collection is 121 hours.

Types of respondents | Number of respondents | Frequency of response | Average time per response (hours) | Annual burden hours requested
USDA SBIR Phase II Grantees | 121 | 1 | 1 | 121

Comments: Comments are invited on: (a) Whether the proposed collection of information is necessary for the proper performance of the functions of the Agency, including whether the information will have practical utility; (b) the accuracy of the Agency's estimate of the burden of the proposed collection of information; (c) ways to enhance the quality, utility, and clarity of the information to be collected; and (d) ways to minimize the burden of the collection of information on those who are to respond, including through the use of appropriate automated, electronic, mechanical, or other technological collection techniques or other forms of information technology.

All responses to this notice will be summarized and included in the request to OMB for approval. All comments will become a matter of public record.

Obtaining a Copy of the Information Collection: A copy of the information collection and related instructions may be obtained free of charge by contacting Robert Martin as directed above.

Done at Washington, DC, this day of September 9, 2022.
Dionne Toombs,
Acting Director, National Institute of Food and Agriculture, U.S. Department of Agriculture.

[FR Doc. 2022-21343 Filed 9-30-22; 8:45 am]

BILLING CODE 3410-22-P